DEPARTMENT OF LABOR

Office of the Secretary

29 CFR Part 34

RIN 1291-AA39

Rescission of Regulations Implementing the Nondiscrimination and Equal Opportunity Provisions of the Job Training Partnership Act of 1982

AGENCY: Office of the Assistant Secretary for Administration and Management, Department of Labor.

ACTION: Direct final rule; confirmation of effective date.

SUMMARY: The U.S. Department of Labor, Office of the Assistant Secretary for Administration and Management (OASAM) is confirming the effective date of its direct final rule (DFR) rescinding its regulations implementing section 167 of the Job Training Partnership Act of 1982, as amended (JTPA). In the DFR published on September 26, 2018, OASAM stated that if no significant adverse comments were submitted by October 26, 2018, then the rule would become effective on November 26, 2018. No adverse comments were received on the rule. So by this document the agency is confirming that the DFR is effective as of November 26, 2018.

DATES: This document confirms that the effective of the DFR published on September 26, 2018 (83 FR 48542), is November 26, 2018.

ADDRESSES: Electronic copies of this Federal Register notice are available at http://www.regulation.gov.

FOR FURTHER INFORMATION CONTACT: Naomi Barry-Perez, Director, Civil Rights Center, U.S. Department of Labor, 200 Constitution Avenue NW, Room N-4123, Washington, DC 20210, telephone (202) 693-6500 (VOICE) or (800) 877-8339 (Federal Relay Service—for TTY), or by email at CRC-WIOA@dol.gov.

SUPPLEMENTARY INFORMATION: On September 26, 2018, OASAM simultaneously published in the Federal Register a notice of proposed rulemaking (83 FR 48576) and a DFR (83 FR 48542) to rescind its regulations implementing Section 167 of the JTPA. Section 167 contained the nondiscrimination and equal-opportunity provisions of the JTPA. In 1998, Congress passed the Workforce Investment Act (WIA), which repealed the JTPA and required the Secretary of Labor to transition any authority under the JTPA to the system that WIA created. WIA, in turn, was subsequently altered by the Workforce Innovation and Opportunity Act (WIOA). The JTPA's nondiscrimination and equal opportunity requirements were superseded by similar provisions in WIA, and more recently, WIOA. The current WIOA regulations governing nondiscrimination and equal opportunity are at 29 CFR part 38. In sum, the rule removes regulations for an inoperative program, but has no impact on existing non-discrimination rules.

OASAM explained that if no significant adverse comments were received during the comment period, then the DFR would become effective and OASAM would withdraw the proposed rule. The comment period for the proposed rule and the DFR ended on October 26, 2018. No adverse comments were received on either rule. By this document, OASAM is confirming that the DFR is effective as of November 26, 2018. As such, the proposed rule is unnecessary and OASAM is withdrawing it in another publication.

Signed at Washington, DC, on July 19, 2019.
Bryan Slater,
Assistant Secretary, Office of the Assistant Secretary for Administration and Management, Department of Labor.

[FR Doc. 2019-16073 Filed 7-29-19; 8:45 am]

BILLING CODE 4510-FR-P